Executive Order 13398 of April 18, 2006

National Mathematics Advisory Panel

By the authority vested in me as President by the Constitution and the laws of the United States of America, it is hereby ordered as follows:

Section 1. Policy. To help keep America competitive, support American talent and creativity, encourage innovation throughout the American economy, and help State, local, territorial, and tribal governments give the Nation's children and youth the education they need to succeed, it shall be the policy of the United States to foster greater knowledge of and improved performance in mathematics among American students.

Sec. 2. Establishment and Mission of Panel. (a) There is hereby established within the Department of Education (Department) the National Mathematics Advisory Panel (Panel).

(b) The Panel shall advise the President and the Secretary of Education (Secretary) consistent with this order on means to implement effectively the policy set forth in section 1, including with respect to the conduct, evaluation, and effective use of the results of research relating to proven-effective and evidence-based mathematics instruction.

Sec. 3. Membership and Chair of Panel. (a) The Panel shall consist of no more than 30 members as follows:

(i) no more than 20 members from among individuals not employed by the Federal Government, appointed by the Secretary for such terms as the Secretary may specify at the time of appointment; and

(ii) no more than 10 members from among officers and employees of Federal agencies, designated by the Secretary after consultation with the heads of the agencies concerned.

(b) From among the members appointed under paragraph(3)(a)(i) of this order, the Secretary shall designate a Chair of the Panel.

(c) Subject to the direction of the Secretary, the Chair of the Panel shall convene and preside at meetings of the Panel, determine its agenda, direct its work and, as appropriate to deal with particular subject matters, establish and direct the work of subgroups of the Panel that shall consist exclusively of members of the Panel.

Sec. 4. Report to the President on Strengthening Mathematics Education. In carrying out subsection 2(b) of this order, the Panel shall submit to the President, through the Secretary, a preliminary report not later than January 31, 2007, and a final report not later than February 28, 2008. Both reports shall, at a minimum, contain recommendations, based on the best available scientific evidence, on the following:

(a) the critical skills and skill progressions for students to acquire competence in algebra and readiness for higher levels of mathematics;

(b) the role and appropriate design of standards and assessment in promoting mathematical competence;

(c) the processes by which students of various abilities and backgrounds learn mathematics;

(d) instructional practices, programs, and materials that are effective for improving mathematics learning;

(e) the training, selection, placement, and professional development of teachers of mathematics in order to enhance students' learning of mathematics;

(f) the role and appropriate design of systems for delivering instruction in mathematics that combine the different elements of learning processes, curricula, instruction, teacher training and support, and standards, assessments, and accountability;

(g) needs for research in support of mathematics education;

(h) ideas for strengthening capabilities to teach children and youth basic mathematics, geometry, algebra, and calculus and other mathematical disciplines;

(i) such other matters relating to mathematics education as the Panel deems appropriate; and

(j) such other matters relating to mathematics education as the Secretary may require.

Sec. 5. Additional Reports. The Secretary may require the Panel, in carrying out subsection 2(b) of this order, to submit such additional reports relating to the policy set forth in section 1 as the Secretary deems appropriate.

Sec. 6. General Provisions. (a) This order shall be implemented in a manner consistent with applicable law, including section 103 of the Department of Education Organization Act (20 U.S.C. 3403), and subject to the availability of appropriations.

(b) The Department shall provide such administrative support and funding for the Panel as the Secretary determines appropriate. To the extent permitted by law, and where practicable, agencies shall, upon request by the Secretary, provide assistance to the Panel.

(c) The Panel shall obtain information and advice as appropriate in the course of its work from:

(i) officers or employees of Federal agencies, unless otherwise directed by the head of the agency concerned;

(ii) State, local, territorial, and tribal officials;

(iii) experts on matters relating to the policy set forth in section 1;

(iv) parents and teachers; and

(v) such other individuals as the Panel deems appropriate or as the Secretary may direct.

(d) Members of the Panel who are not officers or employees of the United States shall serve without compensation and may receive travel expenses, including per diem in lieu of subsistence, as authorized by law for persons serving intermittently in Government service (5 U.S.C. 5701-5707), consistent with the availability of funds.

(e) Insofar as the Federal Advisory Committee Act, as amended (5 U.S.C. App.) (the “Act”), may apply to the administration of any portion of this order, any functions of the President under that Act, except that of reporting to the Congress, shall be performed by the Secretary in accordance with the guidelines issued by the Administrator of General Services.

(f) This order is not intended to, and does not, create any right or benefit, substantive or procedural, enforceable by any party at law or in equity against the United States, its departments, agencies, entities, officers, employees, or agents, or any other person.

Sec. 7. Termination. Unless hereafter extended by the President, this Advisory Panel shall terminate 2 years after the date of this order.

B

THE WHITE HOUSE,

April 18, 2006.

[FR Doc. 06-3865

Filed 4-20-06; 8:45 am]

Billing code 3195-01-P